DEPARTMENT OF DEFENSE

Department of the Air Force

Notice of Intent To Grant an Exclusive Patent License

AGENCY: Air Force Materiel Command, Department of the Air Force.

ACTION: Notice of intent.

SUMMARY: Pursuant to the Bayh-Dole Act and implementing regulations, the Department of the Air Force hereby gives notice of its intent to grant an exclusive patent license agreement to The University of North Carolina at Charlotte, a public university duly organized, validly existing, and in good standing in the State of North Carolina, having a place of business at 9201 University City Blvd., Charlotte, NC 28223, for any right, title and interest the Air Force has in: U.S. Patent Application No. 62/518,896, filed on June 13, 2017, entitled “Photodetector Focal Plane Array Systems and Methods Based on Microcomponents with Arbitrary Shapes,” by Vasily N. Astratov et al.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. AFD 1743 in the subject line of the message.

FOR FURTHER INFORMATION CONTACT: Air Force Materiel Command Law Office, AFMCLO/JAZ, 2240 B Street, Rm. 260, Wright-Patterson AFB, OH 45433-7109; Facsimile: (937) 255-3733; Email: afmclo.jaz.tech@us.af.mil.

SUPPLEMENTARY INFORMATION:

Authority: 35 U.S.C. 209; 37 CFR 404.

Docket No. AFD 1743

The University of North Carolina at Charlotte is a joint owner of this invention and the Air Force intends to license its rights to enable consolidation of such rights for future license agreements. The Department of the Air Force intends to grant the exclusive patent license agreement for the invention described in:

U.S. Patent Application No. 62/518,896, filed on June 13, 2017, entitled “Photodetector Focal Plane Array Systems and Methods Based on Microcomponents with Arbitrary Shapes.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Henry Williams,
Acting Air Force Federal Register Liaison Officer.

[FR Doc. 2017-22958 Filed 10-20-17; 8:45 am]

BILLING CODE 5001-10-P